SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before July 6, 2020.

ADDRESSES: Send all comments to Kimberly Russell, Program Analyst, OED Performance, Office of Entrepreneurial Development, U.S. Small Business Administration, 409 3rd Street SW Suite 6200, Washington, DC 20416.

FOR FURTHER INFORMATION CONTACT: Kimberly Russell, Program Analyst, OED Performance, 202-401-1615, Kimberly.russell@sba.gov or Curtis B. Rich, Management Analyst, 202-205-7030, curtis.rich@sba.gov.

SUPPLEMENTARY INFORMATION: Small Business Administration's Entrepreneurial Development programs collect information on small business owners or potential owners that receive counseling and training through SBA's resource partners, including Women's Business Centers, Small Business Development Centers, SCORE, and Veterans Business Outreach Centers. The information supports SBA's budget requests, reporting, performance plans, and other submissions to the President, Congress and Office of Management and Budget.

Title: Entrepreneurial Development Customer Intake Form & Training Report Form.

Abstract: SBA Forms 641 (Client Intake Form) and 888 (Training Form) are used to collect counseling, training and economic impact information from SBA Resource Partners and contractors that deliver business technical assistance. The forms are used in each instance of assistance received (counseling or training). This data is used to understand the outputs and outcomes realized by SBA Resource Partners. Small revisions to the current Form 641 will be made to reduce burden.

Description of Respondents: Individuals who receive counseling or training through SBA's Resource Partners, SBA Resource Partners, (including Small Business Development Centers (SBDC), and SCORE), and other SBA business technical assistance providers.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information collected.

SBA Form Numbers: 641, 888.

Summary of Information Collection

Title: Entrepreneurial Development Management Information System (EDMIS), Counseling Information Form and Management Training Report

Description of Respondents: Resource Partners (SCORE, Small Business Development Centers (SBDCs), Women's Business Centers (WBCs)) and Veterans Business Outreach Centers (VBOCs) to existing and prospective small businesses and entrepreneurs.

Form Number: SBA Forms 641, 888

Total Estimated Annual Responses: 403,000

Total Estimated Annual Hour Burden: 83,517

Curtis Rich,
Management Analyst.

[FR Doc. 2020-09454 Filed 5-1-20; 8:45 am]

BILLING CODE 8026-03-P